DEPARTMENT OF TRANSPORTATION

Federal Aviation Administration

Notice of Submission Deadline for International Slots for the Summer 2006 Scheduling Season

AGENCY: Department of Transportation, FAA.

ACTION: Notice of submission deadline.

SUMMARY: On October 1, 1999, the FAA amended the regulations governing takeoff and landing slots and slot allocation procedures at certain High Density Traffic Airports as a result of the “Open Transborder” Agreement between the Government of the United States and the Government of Canada. One element of this final rule established that the deadline for submission of requests for international slots will be published in a Federal Register notice for each scheduling season. The purpose of the amendment is for the FAA deadline for international slots requests to coincide with the International Air Transport Association deadline for submission of international requests.

In accordance with this amendment, the FAA announces in this notice that the deadline for submitting requests for international slots at John F. Kennedy International Airport (JFK) for allocation under 14 CFR 93.217 is October 13, 2005.

Additionally,the FAA has designated Chicago's O'Hare International Airport (O'Hare) as a Level 2, Schedules Facilitated Airport under the IATA Guidelines. As such, the FAA requests carriers intending to conduct international service to O'Hare submit their intended schedules following the same procedures used for submitting requests for slots at JFK.

DATES: Requests for international slots must be submitted no later than October 13, 2005.

ADDRESSES: Requests may be submitted by mail to Slot Administration Office, AGC-220 Office of the Chief Counsel, 800 Independence Ave., SW., Washington, DC 20591; facsimile: (202) 267-7277; ARINC: DCAYAXD; e-mail address: 7-AWA-slotadmin@faa.gov.

FOR FURTHER INFORMATION CONTACT: Lorelei Peter, Regulations Division, Office of the Chief Counsel, Federal Aviation Administration, 800 Independence Avenue, SW., Washington, DC 20591; telephone number: (202) 267-3073.

Dated: Issued in Washington, DC on September 12, 2005.
James W. Whitlow,
Deputy Chief Counsel.

[FR Doc. 05-­18480 Filed 9-15-05; 8:45 am]

BILLING CODE 4910-13-M